DEPARTMENT OF HEALTH AND HUMAN SERVICES

National Institutes of Health

Office of the Director, National Institutes of Health; Amended Notice of Meeting

Notice is hereby given of a change in the meeting of the Council of Councils, May 15, 2020, 08:15 a.m. to 04:00 p.m., National Institutes of Health, 6001 Executive Boulevard, Neuroscience Center, Room C, E, Bethesda, MD 20892 which was published in the Federal Register on December 16, 2019, 84 FR 68467.

The meeting notice is amended to change the open and closed session meeting times as follows: The closed session will now be held from 11:00 a.m. to 11:30 a.m. and the open session will now be held from 11:30 a.m. to 3:40 p.m. This notice is also being amended to change the meeting location from National Institutes of Health, 6001 Executive Boulevard, Neuroscience Center, Room C, E, Bethesda, MD 20892 to a virtual meeting. The url link to this meeting is: https://videocast.nih.gov/watch=36031. Any member of the public may submit written comments no later than 15 days after the meeting.

Dated: April 28, 2020.
Ronald J. Livingston, Jr.,
Program Analyst, Office of Federal Advisory Committee Policy.

[FR Doc. 2020-09357 Filed 5-1-20; 8:45 am]

BILLING CODE 4140-01-P